ENVIRONMENTAL PROTECTION AGENCY

40 CFR Part 180

[EPA-HQ-OPP-2021-0766; FRL-9982-01-OCSPP]

RIN 2070-ZA16

Pesticide Tolerances; Implementing Registration Review Decisions for Certain Pesticides (FY22Q4)

AGENCY: Environmental Protection Agency (EPA).

ACTION: Proposed rule.

SUMMARY: EPA is proposing to implement several tolerance actions under the Federal Food, Drug, and Cosmetic Act (FFDCA) that the Agency determined were necessary or appropriate during the registration review conducted under the Federal Insecticide, Fungicide, and Rodenticide Act (FIFRA) for the pesticide active ingredients identified in this document. During registration review, EPA reviews all aspects of a pesticide case, including existing tolerances, to ensure that the pesticide continues to meet the standard for registration under FIFRA. The pesticide actions addressed in this rulemaking are identified in Unit I.B. and discussed in detail in Unit III. of this document.

DATES: Comments must be received on or before October 3, 2022.

ADDRESSES: Submit your comments, identified by docket identification (ID) number EPA-HQ-OPP-2021-0766, through the Federal eRulemaking Portal at: https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Moana Appleyard, Pesticide Re-Evaluation Division (7508M), Office of Pesticide Programs, Environmental Protection Agency, 1200 Pennsylvania Ave. NW, Washington, DC 20460-0001; telephone number: (202) 566-2220; email address: appleyard.moana@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What action is the Agency taking?

EPA is proposing several tolerance actions that the Agency previously determined were necessary or appropriate during the registration review for the identified pesticide active ingredients. During registration review, EPA reviews all aspects of a pesticide case, including existing tolerances, to ensure that the pesticide continues to meet the standard for registration in accordance with the Federal Insecticide, Fungicide, and Rodenticide Act (FIFRA), 7 U.S.C. 136 et seq., and that the pesticide's tolerances meet the safety standard of the Federal Food, Drug and Cosmetic Act (FFCCA), 21 U.S.C. 346a.

Specifically, EPA is proposing to:

• Modify tolerance expressions for ametryn, benfluralin, bensulfuron-methyl, bentazon, chlorpropham, diclosulam, esfenvalerate, ethoxyquin, hydramethylnon (pyrimidinone), imazaquin, phenmedipham, pyrithiobac-sodium, tefluthrin, and uniconazole-P;

• Modify commodity definitions for bispyribac-sodium, imazaquin, and uniconazole-P;

• Update crop groups for fenpropathrin and quinoxyfen;

• Remove expired tolerances for ametryn; and

• Revoke tolerances that are no longer needed for bensulfuron-methyl and chlorpropham.

Although it may not have been identified in the registration review of a particular pesticide, this rule also includes proposals to reflect the Agency's 2019 adoption of the Organization of Economic Cooperation and Development (OECD) Rounding Class Practice. Where applicable, these adjustments are proposed for specific pesticides as discussed in Unit III. of this document.

C. What is EPA's authority for taking this action?

Pursuant to its authority under the FFDCA, 21 U.S.C. 346a, EPA is proposing the tolerance actions in this rulemaking that the Agency previously determined were necessary or appropriate during the registration review conducted under FIFRA, 7 U.S.C. 136 et seq.

FFDCA section 408(b) authorizes EPA to establish a tolerance, if the Agency determines that a tolerance is safe; FFDCA section 408(c) authorizes EPA to establish an exemption from the requirement of a tolerance if the Agency determines that the exemption is safe. See 21 U.S.C. 346a(b) and (c). If EPA determines that a tolerance or exemption is not safe, EPA must modify or revoke that tolerance or exemption. Id. The FFDCA defines “safe” to mean that “there is a reasonable certainty that no harm will result from aggregate exposure to the pesticide chemical residue, including all anticipated dietary exposures and all other exposures for which there is reliable information.” 21 U.S.C. 346a(b)(2)(A)(ii), (c)(2)(A)(ii). This includes exposure through drinking water and in residential settings but does not include occupational exposure. FFDCA section 408(b)(2)(C) requires EPA to give special consideration to the exposure of infants and children to the pesticide chemical residue in establishing a tolerance and to “ensure that there is a reasonable certainty that no harm will result to infants and children from aggregate exposure to the pesticide chemical residue[s.]” 21 U.S.C. 346a(b)(2)(C). In addition, FFDCA section 408(b)(2)(D) contains several factors EPA must consider when making determinations about establishing, modifying, or revoking tolerances. 21 U.S.C. 346a(b)(2)(D). FFDCA section 408(c)(2)(B) requires that EPA, when making determinations about exemptions, to take into account, among other things, the considerations set forth in FFDCA section 408(b)(2)(C) and (D). 21 U.S.C. 346a(c)(2)(B).

FFDCA section 408(e), 21 U.S.C. 346a(e), authorizes EPA to establish, modify, or revoke tolerances or exemptions from the requirement of a tolerance on its own initiative. Prior to issuing the final regulation, FFDCA section 408(e)(2) requires EPA to issue a notice of proposed rulemaking for a 60-day public comment period, unless the Administrator for good cause finds that it would be in the public interest to have a shorter period and states the reasons in the rulemaking.

Furthermore, when establishing tolerances or exemptions from the requirement of a tolerance, FFDCA sections 408(b)(3) and (c)(3) require that there be a practical method for detecting and measuring pesticide chemical residue levels in or on food, unless in the case of exemptions, EPA determines that such method is not needed and states the reasons therefor in the rulemaking. 21 U.S.C. 346a(b) and (c).

Under FIFRA section 3(g), 7 U.S.C. 136a(g), EPA is required to periodically review all registered pesticides and determine if those pesticides continue to meet the standard for registration under FIFRA. See also 40 CFR 155.40(a). Consistent with its obligations under FIFRA section 3(g) and FFDCA section 408, EPA has reviewed the available scientific data and other relevant information and determined it is appropriate to take the tolerance actions being proposed in this rulemaking.

D. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, you must submit a copy of the comment that does not contain the information claimed as CBI for inclusion in the public docket. Information so marked will not be disclosed except in accordance with procedures set forth in 40 CFR part 2.

2. Tips for preparing your comments. When preparing and submitting your comments, see the commenting tips at https://www.regulations.gov/faq.

3. Environmental justice. EPA seeks to achieve environmental justice, the fair treatment and meaningful involvement of any group, including minority and/or low-income populations, in the development, implementation, and enforcement of environmental laws, regulations, and policies.

E. What can I do if I want the Agency to maintain a tolerance that the Agency proposes to revoke?

During the 60-day public comment period for this proposed rule, any person can state an interest in retaining a tolerance proposed for revocation. If EPA receives such a comment within the 60-day period, EPA will not proceed to revoke the tolerance immediately. However, EPA will take steps to ensure the submission of any needed supporting data and will issue an order in the Federal Register under FFDCA section 408(f), if needed. The order would specify data needed and the timeframes for submission of the data and would require that within 90 days some person or persons notify EPA that they will submit the data. If the data are not submitted as required in the order, EPA will take appropriate action under FFDCA.

II. Background

A. What is a tolerance?

A “tolerance” represents the maximum level for residues of pesticide chemicals legally allowed in or on food, which includes raw agricultural commodities and processed foods and feed for animals. Under the FFDCA, residues of a pesticide chemical that are not covered by a tolerance or exemption from the requirement of a tolerance are considered unsafe. See 21 U.S.C. 346a(a)(1). Foods containing unsafe residues are deemed adulterated and may not be distributed in interstate commerce. See 21 U.S.C. 331(a), 342(a)(2)(B). Consequently, for a food-use pesticide (i.e., a pesticide use that is likely to result in residues in or on food) to be sold and distributed, the pesticide must not only have appropriate tolerances or exemptions under the FFDCA, but also must be registered under FIFRA, 7 U.S.C. 136 et seq. Food-use pesticides not registered in the United States must have tolerances or exemptions in order for commodities treated with those pesticides to be imported into the United States. For additional information about tolerances, go to https://www.epa.gov/pesticide-tolerances/about-pesticide-tolerances.

B. Why does EPA consider the Codex MRLs?

When establishing a tolerance for residues of a pesticide, EPA must determine whether the Codex Alimentarius Commission has established a Maximum Residue Limit (MRL) for that pesticide. See 21 U.S.C. 346a(b)(4). As part of registration review, EPA identifies opportunities to harmonize with Codex MRLs for each pesticide-crop combination.

C. What is pesticide registration review?

EPA periodically reviews existing registered pesticides to ensure they can continue to be used without unreasonable adverse effects on human health or the environment. The registration review program is intended to make sure that, as the ability to assess risk evolves and as policies and practices change, all registered pesticides continue to meet the FIFRA registration standard of no unreasonable adverse effects. As part of the registration review of a pesticide, EPA also evaluates whether existing tolerances are safe, whether any changes to existing tolerances are necessary or appropriate, and whether any new tolerances are necessary to cover residues from registered pesticides. Additional information about pesticide registration review is available at https://www.epa.gov/pesticide-reevaluation.

III. Proposed Tolerance Actions

EPA is proposing to take the specific tolerance actions identified in this unit. Where appropriate, EPA has included the determination of safety for the pesticide actions being taken. These proposed tolerance changes are discussed in detail in the human health risk assessments conducted to support the registration review of each specific pesticide active ingredient or registration review case. In addition, these proposed tolerance changes are summarized in both the Proposed Interim Decision (PID), and in the Interim Decision (ID) for each pesticide active ingredient or registration review case. These documents can be found in the public docket that has been opened for each pesticide, which is available online at https://www.regulations.gov, using the docket ID number listed in the heading of each pesticide active ingredient included in this proposed action. To locate the relevant supporting documents, enter the specific docket ID number in the search box at https://www.regulations.gov.

A. Ametryn, Case 2010 (Docket ID No. EPA-HQ-OPP-2013-0249).

EPA is proposing to revise the current tolerance expression for ametryn in 40 CFR 180.258 to describe more clearly the scope or coverage of the tolerances and the method for measuring compliance. Consistent with EPA policy, the revised tolerance expression will clarify that (1) as provided in FFDCA section 408(a)(3), the tolerances cover metabolites and degradates of ametryn not specifically mentioned; and (2) compliance with the specified tolerance levels is to be determined by measuring the specific compounds mentioned in the tolerance expression. The revisions to the tolerance expression do not substantively change the tolerances or, in any way, modify the permissible level of residues in or on the commodities listed in the regulation.

In addition, as a housekeeping measure, EPA is proposing to remove from the regulation the listing of tolerances for residues of ametryn in or on banana; corn, sweet, forage; corn, sweet, kernel plus cob with husks removed; and corn, sweet, stover, because these tolerances expired on June 16, 2010.

During registration review, EPA assessed the risks from exposure to ametryn, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to ametryn residues. Thus, EPA has determined that the tolerances for residues of ametryn are safe. Adequate enforcement methodology as described in the supporting documents is available to enforce the tolerance expression. For further details, see Ametryn—Preliminary Human Health Risk Assessment for Registration Review, which can be accessed using the docket ID number listed in the heading of this unit.

B. Benfluralin, Case 2030 (Docket ID No. EPA-HQ-OPP-2011-0931)

EPA is proposing to revise the current tolerance expression for benfluralin in 40 CFR 180.208 to describe more clearly the scope or coverage of the tolerances and the method for measuring compliance. Consistent with EPA policy, the revised tolerance expression will clarify that (1) as provided in FFDCA section 408(a)(3), the tolerances cover metabolites and degradates of benfluralin, including its metabolites and degradates in or on the commodities not specifically mentioned; and (2) compliance with the specified tolerance levels is to be determined by measuring the specific compounds mentioned in the tolerance expression. The revisions to the tolerance expression do not substantively change the tolerances or, in any way, modify the permissible level of residues in or on the commodities listed in the regulation.

During registration review, EPA assessed the risks from exposure to benfluralin, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to benfluralin residues. Thus, EPA has determined that the tolerances for residues of benfluralin are safe. Adequate enforcement methodology as described in the supporting documents is available to enforce the tolerance expression. For further details, see Benfluralin: Human Health Draft Risk Assessment for Registration Review, which can be accessed using the docket ID number listed in the heading of this unit.

C. Bensulfuron-methyl, Case 7216 (Docket ID No. EPA-HQ-OPP-2011-0663)

EPA is proposing to revise the current tolerance expression for bensulfuron-methyl in 40 CFR 180.445 to describe more clearly the scope or coverage of the tolerances and the method for measuring compliance. Consistent with EPA policy, the revised tolerance expression will clarify that (1) as provided in FFDCA section 408(a), the tolerances cover metabolites and degradates of bensulfuron-methyl not specifically mentioned; and (2) compliance with the specified tolerance levels is to be determined by measuring the specific compounds mentioned in the tolerance expression. The revisions to the tolerance expression do not substantively change the tolerances or, in any way, modify the permissible level of residues in or on the commodities listed in the regulation.

Additionally, EPA is proposing to clarify the spelling of the chemical name with a hyphen between bensulfuron and methyl.

During registration review, EPA assessed the risks from exposure to bensulfuron-methyl, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to bensulfuron-methyl residues. Thus, EPA has determined that the tolerances for residues of bensulfuron-methyl are safe. Adequate enforcement methodology as described in the supporting documents is available to enforce the tolerance expression. For further details, see Bensulfuron-methyl. Human Health Risk Assessment for Registration Review, which can be accessed using the docket ID number listed in the heading of this unit.

D. Bentazon, Case 0182 (Docket ID No. EPA-HQ-OPP-2010-0117)

EPA is proposing to revise the current tolerance expressions for bentazon in 40 CFR 180.355 to describe more clearly the scope or coverage of the tolerances for raw agricultural commodities and for livestock commodities and the method for measuring compliance. Consistent with EPA policy, the revised tolerance expressions will clarify that (1) as provided in FFDCA section 408(a)(1), the tolerances cover metabolites and degradates of bentazon not specifically mentioned; and (2) compliance with the specified tolerance levels is to be determined by measuring the specific compounds mentioned in the tolerance expressions. The revisions to the tolerance expressions do not substantively change the tolerances or, in any way, modify the permissible level of residues in or on the commodities listed in the regulation.

During registration review, EPA assessed the risks from exposure to bentazon, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to bentazon residues. Thus, EPA has determined that the tolerances for residues of bentazon are safe. Adequate enforcement methodology as described in the supporting documents is available to enforce the tolerance expression. For further details, see Sodium Bentazon—Preliminary Human Health Risk Assessment for Registration Review, which can be accessed using the docket ID number listed in the heading of this unit.

E. Bispyribac-sodium, Case 7258 (Docket ID No. EPA-HQ-OPP-2014-0074)

EPA is proposing to modify the commodity definition in 40 CFR 180.577 for “Fish, freshwater” to the correct definition of “Fish, freshwater, finfish.” This revision will help facilitate efficient commodity searches and does not substantively change the tolerance or, in any way, modify the permissible level of residues in or on the commodity listed in the regulation.

During registration review, EPA assessed the risks from exposure to bispyribac-sodium, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to bispyribac-sodium residues. Thus, EPA has determined that the tolerances for residues of bispyribac-sodium are safe. Adequate enforcement methodology as described in the supporting documents is available to enforce the tolerance expression. For further details, see Bispyribac-sodium. Draft Human Health Risk Assessment for Registration Review, which can be accessed using the docket ID number listed in the heading of this unit.

F. Chlorpropham, Case 0271 (Docket ID No. EPA-HQ-OPP-2010-0923)

EPA is proposing to revise the current tolerance expressions for chlorpropham in 40 CFR 180.181 to describe more clearly the scope or coverage of the tolerances for raw agricultural commodities and livestock commodities and the method for measuring compliance. Consistent with EPA policy, the revised tolerance expressions will clarify that (1) as provided in FFDCA section 408(a)(1), the tolerances cover metabolites and degradates of chlorpropham not specifically mentioned; and (2) compliance with the specified tolerance levels is to be determined by measuring the specific compounds mentioned in the tolerance expressions. The revisions to the tolerance expressions do not substantively change the tolerances or, in any way, modify the permissible level of residues in or on the commodities listed in the regulation.

EPA is proposing to revoke tolerances in 40 CFR 180.181 for residues of chlorpropham in or on hog, fat; hog, kidney; hog, meat; and hog, meat byproducts except kidney, which are no longer needed because potatoes and potato, wet peel are no longer hog feed items.

During registration review, EPA assessed the risks from exposure to chlorpropham, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to chlorpropham residues. Thus, EPA has determined that the tolerances for residues of chlorpropham are safe. Adequate enforcement methodology as described in the supporting documents is available to enforce the tolerance expression. For further details, see Chlorpropham. Draft Human Health Risk Assessment for Registration Review, which can be accessed using the docket ID number listed in the heading of this unit.

G. Diclosulam, Case 7249 (Docket ID No. EPA-HQ-OPP-2015-0285)

EPA is proposing to revise the current tolerance expression for diclosulam in 40 CFR 180.543 to describe more clearly the scope or coverage of the tolerances and the method for measuring compliance. Consistent with EPA policy, the revised tolerance expression will clarify (1) that, as provided in FFDCA section 408(a)(3), the tolerance covers metabolites and degradates of diclosulam not specifically mentioned; and (2) that compliance with the specified tolerance levels is to be determined by measuring the specific compounds mentioned in the tolerance expression. The revision to the tolerance expression does not substantively change the tolerance or, in any way, modify the permissible level of residues permitted by the tolerances.

During registration review, EPA assessed the risks from exposure to diclosulam, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to diclosulam residues. Thus, EPA has determined that the tolerances for residues of diclosulam are safe. Adequate enforcement methodology as described in the supporting documents is available to enforce the tolerance expression. For further details, see Diclosulam. Human Health Assessment Scoping Document and Preliminary Human Health Risk Assessment in Support of Registration Review, which can be accessed using the docket ID number listed in the heading of this unit.

H. Esfenvalerate, Case 7406 (Docket ID No. EPA-HQ-OPP-2009-0301)

EPA is proposing to revise the current tolerance expressions for esfenvalerate in 40 CFR 180.533 for metabolites and degradates of general food commodities, raw agricultural food commodities, and for tolerances with regional registrations, to describe more clearly the scope or coverage of the tolerances and the method for measuring compliance. Consistent with EPA policy, the revised tolerance expression will clarify (1) that, as provided in FFDCA section 408(a)(3), the tolerance covers metabolites and degradates of esfenvalerate not specifically mentioned; and (2) that compliance with the specified tolerance levels is to be determined by measuring the specific compounds mentioned in the tolerance expression. The revisions to the tolerance expressions do not substantively change the tolerance or, in any way, modify the permissible level of residues permitted by the tolerances.

During registration review, EPA assessed the risks from exposure to esfenvalerate, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to esfenvalerate residues. Thus, EPA has determined that the tolerances for residues of esfenvalerate are safe. Adequate enforcement methodology as described in the supporting documents is available to enforce the tolerance expression. For further details, see Esfenvalerate. Draft Human Health Risk Assessment for Registration Review, which can be accessed using the docket ID number listed in the heading of this unit.

I. Ethoxyquin, Case 0003 (Docket ID No. EPA-HQ-OPP-2014-0780)

EPA is proposing to revise the current tolerance expression for ethoxyquin in 40 CFR 180.178 to describe more clearly the scope or coverage of the tolerances and the method for measuring compliance. Consistent with EPA policy, the revised tolerance expression will clarify (1) that, as provided in FFDCA section 408(a)(3), the tolerance covers metabolites and degradates of ethoxyquin not specifically mentioned; and (2) that compliance with the specified tolerance levels is to be determined by measuring the specific compounds mentioned in the tolerance expression. The revisions to the tolerance expression do not substantively change the tolerance or, in any way, modify the permissible level of residues permitted by the tolerances.

During registration review, EPA assessed the risks from exposure to ethoxyquin, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to ethoxyquin residues. Thus, EPA has determined that the tolerances for residues of ethoxyquin are safe. Adequate enforcement methodology as described in the supporting documents is available to enforce the tolerance expression. For further details, see Ethoxyquin: Draft Human Health Risk Assessment in Support of Registration Review, which can be accessed using the docket ID number listed in the heading of this unit.

J. Fenpropathrin, Case 7601 (Docket ID No. EPA-HQ-OPP-2010-0422)

EPA is proposing to update the existing crop groups in 40 CFR 180.466 for “fruit, stone, Crop Group 12, except cherry” to the updated subgroups for peach and plum and cherry and for “nut, tree crop group 14” to the updated crop group 14-12. 40 CFR 180.40(j) states that “At appropriate times, EPA will amend tolerances for crop groups that have been superseded by revised crop groups to conform the pre-existing crop group to the revised crop group (40 CFR 180.41).”

During registration review, EPA assessed the risks from exposure to fenpropathrin, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to fenpropathrin residues. Thus, EPA has determined that the tolerances for residues of fenpropathrin are safe. Adequate enforcement methodology as described in the supporting documents is available to enforce the tolerance expression. For further details, see Fenpropathrin. Draft Human Health Risk Assessment for Registration Review and the Fenpropathrin Interim Registration Review Decision, which can be accessed using the docket ID number listed in the heading of this unit.

K. Hydramethylnon (Pyrimidinone), Case 2585 (Docket ID No. EPA-HQ-OPP-2012-0869)

EPA is proposing to add the chemical name “(Pyrimidinone)” in the title in 40 CFR 180.395 to more accurately reflect the chemical covered by the tolerances in that section.

EPA is also proposing to revise the current tolerance expression for hydramethylnon to describe more clearly the scope or coverage of the tolerances and the method for measuring compliance. Consistent with EPA policy, the revised tolerance expression will clarify (1) that, as provided in FFDCA section 408(a)(3), the tolerance covers metabolites and degradates of hydramethylnon not specifically mentioned; and (2) that compliance with the specified tolerance levels is to be determined by measuring the specific compounds mentioned in the tolerance expression. The revisions to the tolerance expression do not substantively change the tolerance or, in any way, modify the permissible level of residues permitted by the tolerances.

During registration review, EPA assessed the risks from exposure to hydramethylnon, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to hydramethylnon residues. Thus, EPA has determined that the tolerances for residues of hydramethylnon are safe. Adequate enforcement methodology as described in the supporting documents is available to enforce the tolerance expression. For further details, see Hydramethylnon. Draft Human Health Risk Assessment for Registration Review, and Hydramethylnon. Addendum to Draft Human Health Risk Assessment for Registration Review, which can be accessed using the docket ID number listed in the heading of this unit.

L. Imazaquin, Case 7204 (Docket ID No. EPA-HQ-OPP-2014-0224)

EPA is proposing to revise the chemical name to add “Imazaquin” to the title for 40 CFR 180.426. EPA is also proposing to revise the current tolerance expression in to describe more clearly the scope or coverage of the tolerances and the method for measuring compliance. Consistent with EPA policy, the revised tolerance expression will clarify (1) that, as provided in FFDCA section 408(a)(3), the tolerance covers metabolites and degradates of imazaquin not specifically mentioned; and (2) that compliance with the specified tolerance levels is to be determined by measuring the specific compounds mentioned in the tolerance expression. In addition, EPA is proposing to add a table to paragraph (a)(1) and to update the commodity definition from “Soybean” to “Soybean, seed.” The revisions to the tolerance expression and commodity definition for soybean do not substantively change the tolerance or, in any way, modify the permissible level of residues permitted by the tolerances.

During registration review, EPA assessed the risks from exposure to imazaquin, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to imazaquin residues. Thus, EPA has determined that the tolerances for residues of imazaquin are safe. Adequate enforcement methodology as described in the supporting documents is available to enforce the tolerance expression. For further details, see Imazaquin: Draft Human Health Risk Assessment for Registration Review, which can be accessed using the docket ID number listed in the heading of this unit.

M. Phenmedipham, Case 0277 (Docket ID No. EPA-HQ-OPP-2014-0546)

EPA is proposing to revise the current tolerance expression for phenmedipham in 40 CFR 180.278 to describe more clearly the scope or coverage of the tolerances and the method for measuring compliance. Consistent with EPA policy, the revised tolerance expression will clarify that (1) as provided in FFDCA section 408(a)(3), the tolerances cover metabolites and degradates of phenmedipham not specifically mentioned; and (2) compliance with the specified tolerance levels is to be determined by measuring the specific compounds mentioned in the tolerance expression. The revision to the tolerance expression does not substantively change the tolerances or, in any way, modify the permissible level of residues permitted by the tolerances.

During registration review, EPA assessed the risks from exposure to phenmedipham, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to phenmedipham residues. Thus, EPA has determined that the tolerances for residues of phenmedipham are safe. Adequate enforcement methodology as described in the supporting documents is available to enforce the tolerance expression. For further details, see Phenmedipham Scoping Document and Draft Human Health Risk Assessment in Support of Registration Review, which can be accessed using the docket ID number listed in the heading of this unit.

N. Pyrithiobac-sodium, Case 7239 (Docket ID No. EPA-HQ-OPP-2011-0661)

EPA is proposing to revise the current tolerance expression for pyrithiobac-sodium to describe more clearly the scope or coverage of the tolerances and the method for measuring compliance. Consistent with EPA policy, the revised tolerance expression will clarify that (1) as provided in FFDCA section 408(a)(3), the tolerances cover metabolites and degradates of pyrithiobac-sodium not specifically mentioned; and (2) that compliance with the specified tolerance levels is to be determined by measuring the specific compounds mentioned in the tolerance expression. The revisions to the tolerance expression do not substantively change the tolerance or, in any way, modify the permissible level of residues permitted by the tolerances. EPA is also proposing to add a hyphen in the chemical name used in the heading in 40 CFR 180.487, to read “pyrithiobac-sodium.”

During registration review, EPA assessed the risks from exposure to pyrithiobac-sodium, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to pyrithiobac-sodium residues. Thus, EPA has determined that the tolerances for residues of pyrithiobac-sodium are safe. Adequate enforcement methodology as described in the supporting documents is available to enforce the tolerance expression. For further details, see Pyrithiobac-Sodium: Human Health Draft Risk Assessment for Registration Review, which can be accessed using the docket ID number listed in the heading of this unit.

O. Quinoxyfen, Case 7037 (Docket ID No. EPA-HQ-OPP-2013-0771)

EPA is proposing to convert existing crop group tolerances for residues of quinoxyfen in 40 CFR 180.588 to updated crop group tolerances. EPA is proposing to convert the existing crop group “Fruit, stone, group 12” to the updated crop group “Fruit, stone, group 12-12”. This conversion would modify existing tolerances for commodities in that crop group and establish new tolerances for commodities in the updated crop group. 40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V, 85 FR 70976, 70982 (Nov. 6, 2020). As part of registration review, EPA identified tolerances for residues of quinoxyfen in or on commodities in crop groups that have been updated since those tolerances were initially established. In addition, as indicated above, EPA is removing the trailing zero from the current “Fruit, stone, group 12” tolerance, so that it will be 0.7 ppm, to be consistent with the OECD Rounding Class Practice.

During registration review, EPA assessed the risks from exposure to quinoxyfen, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to quinoxyfen residues. Thus, EPA has determined that the tolerances for residues of quinoxyfen are safe. Adequate enforcement methodology as described in the supporting documents is available to enforce the tolerance expression. For further details, see Quinoxyfen. Draft Human Health Risk Assessment for Registration Review, which can be accessed using the docket ID number listed in the heading of this unit.

P. Tefluthrin, Case 7409 (Docket ID No. EPA-HQ-OPP-2012-0501)

EPA is proposing to revise the current tolerance expression for tefluthrin in 40 CFR 180.440 to describe more clearly the scope or coverage of the tolerances and the method for measuring compliance. Consistent with EPA policy, the revised tolerance expression will clarify that (1) as provided in FFDCA section 408(a)(3), the tolerance covers metabolites and degradates of tefluthrin not specifically mentioned; and (2) compliance with the specified tolerance levels is to be determined by measuring the specific compounds mentioned in the tolerance expression. The revisions to the tolerance expression do not substantively change the tolerance or, in any way, modify the permissible level of residues permitted by the tolerances.

During registration review, EPA assessed the risks from exposure to tefluthrin, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to tefluthrin residues. Thus, EPA has determined that the tolerances for residues of tefluthrin are safe. Adequate enforcement methodology as described in the supporting documents is available to enforce the tolerance expression. For further details, see Tefluthrin. Revised Human Health Risk Assessment, which can be accessed using the docket ID number listed in the heading of this unit.

Q. Uniconazole-P, Case 7007 (Docket ID No. EPA-HQ-OPP-2015-0729)

The Agency is proposing to revise the tolerance expression for uniconazole-P to describe more clearly the scope or coverage of the tolerance and the method for measuring compliance. Consistent with EPA policy, the revised tolerance expression will clarify that (1) as provided in FFDCA section 408(a)(3), the tolerance covers metabolites and degradates of uniconazole-P not specifically mentioned; and (2) in 40 CFR 180.643 compliance with the specified tolerance level is to be determined by measuring the specific compounds mentioned in the tolerance expression. The Agency is also proposing to convert the existing crop group tolerance for “Vegetable, fruiting, group 8” to the updated crop group tolerance for “Vegetable, fruiting, group 8-10.” The tolerance level of 0.01 ppm would remain the same. 40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V, (85 FR 70976, 70982) (Nov. 6, 2020). Additionally, EPA is proposing to clarify the chemical name in the title in 40 CFR 180.643 from “Uniconazole” to “Uniconazole-P” to more accurately reflect the chemical covered by the tolerances in that section.

During registration review, EPA assessed the risks from exposure to uniconazole-P, taking into consideration all reliable data on toxicity and exposure, including for infants and children. Based on the supporting risk assessments and registration review documents, which demonstrate that the aggregate exposure is below the Agency's level of concern, EPA concludes there is a reasonable certainty that no harm will result to the general population, or specifically to infants and children, from aggregate exposure to uniconazole-P residues. Thus, EPA has determined that the tolerances for residues of uniconazole-P are safe. Adequate enforcement methodology as described in the supporting documents is available to enforce the tolerance expression. For further detail, see Uniconazole-P. Draft Human Health Risk Assessment for Registration Review, which can be accessed using the docket ID number listed in the heading of this unit.

IV. Proposed Effective Date

EPA is proposing that these tolerance actions would become effective six months after the date of publication of the final rule in the Federal Register. EPA is proposing this effective date to allow a reasonable interval for producers in exporting members of the World Trade Organization's (WTO's) Sanitary and Phytosanitary (SPS) Measures Agreement to adapt to the requirements of certain actions being taken in the final rule.

V. Statutory and Executive Order Reviews

Additional information about these statutes and Executive Orders can be found at https://www2.epa.gov/laws-regulations/laws-and-executive-orders.

A. Executive Order 12866: Regulatory Planning and Review and Executive Order 13563: Improving Regulations and Regulatory Review

The Office of Management and Budget (OMB) has exempted these types of actions (e.g., the establishment and modification of a tolerance and tolerance revocations for which extraordinary circumstances do not exist) from review under Executive Orders 12866 (58 FR 51735, October 4, 1993) and 13563 (76 FR 3821, January 21, 2011). This exemption applies for the tolerance revocations in this proposed rule because the Agency knows of no extraordinary circumstances that warrant reconsideration of this exemption for those actions.

B. Paperwork Reduction Act (PRA)

This action does not impose an information collection burden under the PRA 44 U.S.C. 3501 et seq., because it does not contain any information collection activities (i.e., no recordkeeping, reporting or third-party disclosure requirements).

C. Regulatory Flexibility Act (RFA)

I certify that this action will not have a significant economic impact on a substantial number of small entities under the RFA, 5 U.S.C. 601 et seq. In making this determination, EPA concludes that the impact of concern for this rule is any significant adverse economic impact on small entities subject to the requirements of this action and that the Agency is certifying that this rule will not have a significant economic impact on a substantial number of small entities because the rule has no net burden on small entities subject to the rule.

This takes into account an EPA analysis for tolerance establishments and modifications that published in the Federal Register of May 4, 1981 (46 FR 24950) (FRL-1809-5) and for tolerance revocations on December 17, 1997 (62 FR 66020) (FRL-5753-1). Furthermore, for the pesticides named in this proposed rule, the Agency knows of no extraordinary circumstances that exist as to the present proposed rule that would change EPA's previous analysis. Additionally, in a memorandum dated May 25, 2001, EPA determined that eight conditions must all be satisfied in order for an import tolerance or tolerance exemption revocation to adversely affect a significant number of small entity importers, and that there is a negligible joint probability of all eight conditions holding simultaneously with respect to any particular revocation. See Memorandum from Denise Keehner, Division Director, Biological and Economic Analysis Division, Office of Pesticide Programs to Public Docket concerning Tolerance Revocation Rulemaking, Proposed or Final, “RFA/SBREFA Certification for Import Tolerance Revocation”, dated May 25, 2001, which is available in the docket. Any comments about the Agency's determination should be submitted to the EPA along with comments on the proposed rule and will be addressed prior to issuing a final rule.

D. Unfunded Mandates Reform Act (UMRA)

This action does not contain an unfunded mandate or impose an enforceable duty on any state, local or tribal government as described in UMRA, 2 U.S.C. 1531-1538, and will not significantly or uniquely affect small governments. Accordingly, this rule is not subject to the requirements of sections 202, 203, or 205 of UMRA.

E. Executive Order 13132: Federalism

This action does not have federalism implications as specified in Executive Order 13132 (64 FR 43255, August 10, 1999), because it will not have substantial direct effects on the states, on the relationship between the national government and the states, or on the distribution of power and responsibilities among the various levels of government. This proposed rule directly regulates growers, food processors, food handlers, and food retailers, not States.

F. Executive Order 13175: Consultation and Coordination With Indian Tribal Governments

This action does not have tribal implications as specified in Executive Order 13175 (65 FR 67249, November 9, 2000), because it will not have substantial direct effects on tribal governments, on the relationship between the Federal government and the Indian tribes, or on the distribution of power and responsibilities between the Federal government and Indian tribes.

G. Executive Order 13045: Protection of Children From Environmental Health Risks and Safety Risks

EPA interprets Executive Order 13045 (62 FR 19885, April 23, 1997) as applying only to those regulatory actions that concern environmental health or safety risks that the EPA has reason to believe may disproportionately affect children, per the definition of “covered regulatory action” in section 2-202 of the Executive Order. This action is not subject to Executive Order 13045 because it is not economically significant as defined in Executive Order 12866 and because the EPA does not believe the environmental health or safety risks addressed by this action present a disproportionate risk to children. Chemical specific health and safety risk assessments for each chemical are discussed in section III. Proposed Tolerance Actions.

H. Executive Order 13211: Actions Concerning Regulations That Significantly Affect Energy Supply, Distribution or Use

This action is not a “significant energy action” as defined in Executive Order 13211 (66 FR 28355, May 22, 2001) because it is not likely to have a significant adverse effect on the supply, distribution or use of energy and has not otherwise been designated as a significant energy action by the Administrator of the Office of Information and Regulatory Affairs.

I. National Technology Transfer Advancement Act (NTTAA)

This action does not involve technical standards that would require Agency consideration under NTTAA section 12(d), 15 U.S.C. 272.

J. Executive Order 12898: Federal Actions To Address Environmental Justice in Minority Populations and Low-Income Populations

In accordance with Executive Order 12898 (59 FR 7629, February 16, 1994) and Executive Order 14008 (86 FR 7619, January 27, 2021), EPA finds that this action will not result in disproportionately high and adverse human health, environmental, climate-related, or other cumulative impacts on disadvantaged communities.

List of Subjects in 40 CFR Part 180

Environmental protection, Administrative practice and procedure, Agricultural commodities, Pesticides and pests, Reporting and recordkeeping requirements.

Dated: July 21, 2022.
Edward Messina,
Director, Office of Pesticide Programs.

For the reasons set forth in the preamble, EPA is proposing to amend 40 CFR chapter I as follows:

PART 180—TOLERANCES AND EXEMPTIONS FOR PESTICIDE CHEMICAL RESIDUES IN FOOD

1. The authority citation for part 180 continues to read as follows:

Authority: 21 U.S.C. 321(q), 346a and 371.

2. Amend § 180.178 by:

a. Revising the introductory text in paragraph (a);

b. Adding the table heading “Table 1 to Paragraph (a)”.

The revision and addition read as follows:§ 180.178 Ethoxyquin; tolerances for residues.

(a) General. Tolerances are established for residues of ethoxyquin, including its metabolites and degradates, in or on the commodities in table 1 to this paragraph (a). Compliance with the tolerance levels specified in table 1 is to be determined by measuring only ethoxyquin (1,2-dihydro-6-ethoxy-2,2,4-trimethylquinoline) in or on the commodity.

Table 1 to Paragraph (a)

* * * * *

3. Amend § 180.181 by:

a. Revising the introductory text in paragraph (a)(1);

b. Adding the table heading “Table 1 to Paragraph (a)(1)”;

c. Revising the introductory text in paragraph (a)(2);

d. Adding the table heading “Table 2 to Paragraph (a)(2)”; and

e. Removing the entries in table 2 for “Hog, fat”; “Hog, kidney”; “Hog, meat”, and “Hog, meat byproducts except kidney”.

The revisions and additions read as follows:

§ 180.181 Chlorpropham; tolerances for residues.

(a) General. (1) Tolerances are established for residues of the plant regulator and herbicide chlorpropham, including its metabolites and degradates. Compliance with the tolerance levels is to be determined by measuring only chlorpropham (1-methylethyl N-(3- chlorophenyl)carbamate), in or on the following raw agricultural commodities:

Table 1 to Paragraph (a)(1)

* * * * *

(2) Tolerances are established for residues of the plant regulator and herbicide chlorpropham, including its metabolites and degradates. Compliance with the tolerance levels is to be determined by measuring only the sum of chlorpropham (1-methylethyl N-(3- chlorophenyl) carbamate) and its metabolite 4′-hydroxychlorpropham-O-sulfonic acid, calculated as the stoichiometric equivalent of chlorpropham, in or on the following raw agricultural commodities:

Table 2 to Paragraph (a)(2)

* * * * *

4. Amend § 180.208, by:

a. Revising the introductory text in paragraph (a); and

b. Adding the table heading “Table 1 to Paragraph (a)”.

The revisions and addition read as follows:

§ 180.208 Benfluralin; tolerances for residues.

(a) General. Tolerances are established for residues of benfluralin, including its metabolites and degradates, in or on the commodities in table 1 to this paragraph (a). Compliance with the tolerance levels specified in table 1 is to be determined by measuring only benfluralin, N-butyl-N-ethyl-2,6-dinitro-4-(trifluoromethyl)benzenamine.

Table 1 to Paragraph (a)

* * * * *

5. Amend § 180.258, by:

a. Revising the introductory text in paragraph (a);

b. Adding the table heading “Table 1 to Paragraph (a)”; and

c. Removing the expired tolerances in Table 1 for “Banana”; “Corn, sweet, forage”;

“Corn, sweet, kernel plus cob with husks removed”, and “Corn, sweet, stover”.

The revisions and addition read as follows:

§ 180.258 Ametryn; tolerances for residues.

(a) General. Tolerances are established for residues of the herbicide ametryn, including its metabolites and degradates, in or on the commodities listed in the following table 1 to paragraph (a). Compliance with the tolerance levels specified in table 1 is to be determined by measuring only ametryn (N-ethyl-N ′-(1-methylethyl)-6-(methylthio)-1,3,5-triazine-2,4-diamine), in or on the following commodities:

Table 1 to Paragraph (a)

* * * * *

6. Amend § 180.278, by:

a. Revising the introductory text in paragraph (a); and

b. Adding a table heading “Table 1 to Paragraph (a)”.

The revisions and addition read as follows:

§ 180.278 Phenmedipham; tolerances for residues.

(a) General. Tolerances are established for the residues of the herbicide phenmedipham, including its metabolites and degradates, in/on the commodities in table 1 to this paragraph (a). Compliance with the tolerance levels specified are to be determined by measuring only phenmedipham (3-methoxycarbonylaminophenyl-3-methylcarbanilate), in or on the commodities.

Table 1 to Paragraph (a)

* * * * *

7. Amend § 180.355, by:

a. Revising the introductory text in paragraph (a)(1);

b. Adding the table heading “Table 1 to Paragraph (a)(1)”;

c. Revising the introductory text in paragraph (a)(2); and

d. Adding the table heading “Table 2 to Paragraph (a)(2)”.

The revisions and additions read as follows:

§ 180.355 Bentazon; tolerances for residues.

(a) General. (1) Tolerances are established for residues of bentazon, including its metabolites and degradates, in or on the commodities in table 1 to this paragraph (a)(1). Compliance with the tolerance levels specified in table 1 is to be determined by measuring only the sum of bentazon (3-(1-methylethyl)-1H-2,1,3-benzothiadiazin-4(3H)-one 2,2-dioxide) and its metabolites 6-hydroxy bentazon (6-hydroxy-3-(1-methylethyl)-1H-2,1,3-benzothiadiazin-4(3H)-one 2,2-dioxide) and 8-hydroxy bentazon (8-hydroxy-3-(1-methylethyl)-1H-2,1,3-benzothiadiazin-4(3H)-one 2,2-dioxide), calculated as the stoichiometric equivalent of bentazon, in or on the following commodities:

Table 1 to Paragraph (a)(1)

* * * * *

(2) Tolerances are established for residues of bentazon, including its metabolites and degradates, in or on the commodities in table 2 to this paragraph (a)(2). Compliance with the tolerance levels specified in table 2 is to be determined by measuring only the sum of bentazon (3-(1-methylethyl)-1H-2,1,3-benzothiadiazin- 4(3H)-one 2,2-dioxide) and its metabolite 2-amino-N-isopropyl benzamide, calculated as the stoichiometric equivalent of bentazon, in or on the following commodities:

Table 2 to Paragraph (a)(2)

* * * * *

8. Amend § 180.395, by:

a. Revising the heading;

b. Revising the introductory text in paragraph (a); and

c. Adding the table heading “Table 1 to Paragraph (a)”.

The revisions and addition read as follows:

§ 180.395 Hydramethylnon (pyrimidinone); tolerances for residues.

(a) General. Tolerances are established for residues of hydramethylnon, including its metabolites and degradates, in or on the commodities in table 1 to this paragraph (a). Compliance with the tolerance levels specified in Table 1 is to be determined by measuring only hydramethylnon, (tetrahydro-5,5-dimethyl-2(1H)-pyrimidinone(3-(4-(trifluoromethyl)phenyl)-1-(2-(4- (trifluoromethyl)phenyl)ethenyl)-2-propenylidene) hydrazone), in or on the commodity:

Table 1 to Paragraph (a)

* * * * *

9. Revise § 180.426 to read as follows:

§ 180.426 Imazaquin 2-[4,5-Dihydro-4-methyl-4-(1-methylethyl)-5-oxo-1H-imidazol-2-yl]-3-quinoline carboxylic acid; tolerance for residues.

(a) General. Tolerances are established for the combined residues of the herbicide imazaquin, 2-[4,5-dihydro-4-methyl-4-(1-methylethyl)-5-oxo-1H-imidazol-2-yl]-3-quinoline carboxylic acid, including its metabolites and degradates in or on the commodities in table 1 to this paragraph (a). Compliance with the tolerance levels specified in table 1 is to be determined by measuring only imazaquin.

Table 1 to Paragraph (a)
Commodity | Parts per million
Soybean, seed | 0.05

(b) [Reserved]

10. Amend § 180.440, by:

a. Revising introductory text in paragraph (a); and

b. Adding the table heading “Table 1 to Paragraph (a)”.

The revisions and addition read as follows:

§ 180.440 Tefluthrin; tolerances for residues.

(a) General. Tolerances are established for residues of the insecticide tefluthrin, including its metabolites and degradates, in or on the commodities in table 1 to this paragraph (a). Compliance with the tolerance levels specified in table 1 is to be determined by measuring only the sum of tefluthrin [(2,3,5,6-tetrafluoro-4-methylphenyl)methyl (1R,3R)-rel-3-[(1Z)-2-chloro-3,3,3-trifluoro-1-propen-1-yl]-2,2-dimethylcyclopropanecarboxylate] and its metabolite (Z)-(±)-3-(2-chloro-3,3,3-trifluoro-1-propenyl)-2,2-dimethyl-cyclopropanecarboxylic acid, calculated as the stoichiometric equivalent of tefluthrin, in or on the commodity.

Table 1 to Paragraph (a)

* * * * *

11. Amend § 180.445, by:

a. Revising the heading;.

b. Revising the introductory text in paragraph (a); and

c. Adding the table heading “Table 1 to Paragraph (a)”.

The revisions and addition read as follows:

§ 180.445 Bensulfuron-methyl; tolerances for residues.

(a) General. Tolerances are established for residues of bensulfuron-methyl, including its metabolites and degradates, in or on the commodities in table 1 to this paragraph (a). Compliance with the tolerance levels specified in table 1 is to be determined by measuring only bensulfuron-methyl [methyl 2-[[[[[(4,6-dimethoxy-2-pyrimidinyl)amino]*carbonyl]amino]sulfonyl]methyl]benzoate].

Table 1 to Paragraph (a)

* * * * *

12. In § 180.466 amend the table in paragraph (a) by:

a. Adding the table heading “Table 1 to Paragraph (a)”; and

a. Removing the entries for “Cherry, sweet”; and “Cherry, tart”.

b. Adding in alphabetical order the entry “Cherry, subgroup 12-12A”.

c. Removing the entries for “Fruit, stone, crop group 12, except cherry”; and “Nut, tree, crop group 14”.

d. Adding in alphabetical order the entries for “Nut, tree, crop group 14-12”; “Peach, subgroup 12-12B”; and “Plum subgroup 12-12C”.

The additions read as follows:

§ 180.466 Fenpropathrin; tolerances for residues.

(a) * * *

Table 1 to Paragraph (a)
Commodity | Parts per million
* * * * *
Cherry, subgroup 12-12A | 5
* * * * *
Nut, tree, crop group 14-12 | 0.15
* * * * *
Peach, subgroup 12-12B | 1.4
* * * * *
Plum subgroup 12-12C | 1.4
* * * * *

* * * * *

13. Amend § 180.487, by:

a. Revising the heading.

b. Revising the introductory text in paragraph (a); and

c. Adding the table heading “Table 1 to Paragraph (a)”.

The revisions and addition read as follows:

§ 180.487 Pyrithiobac-sodium; tolerances for residues.

(a) General. Tolerances are established for residues of the herbicide pyrithiobac-sodium, including its metabolites and degradates, in or on the commodities in table 1 to this paragraph (a). Compliance with the tolerance levels specified in table 1 is to be determined by measuring only pyrithiobac-sodium (sodium 2-chloro-6-[(4,6-dimethoxy-2-pyrimidinyl)thio]benzoate), in or on the following commodities:

Table 1 to Paragraph (a)

* * * * *

14. Amend § 180.533, by:

a. Revising the introductory text in paragraph (a)(1);

b. Adding the table heading “Table 1 to Paragraph (a)”;

c. Revising the introductory text in paragraph (a)(2);

d. Revising the introductory text in paragraph (c), and

e. Adding the table heading “Table 2 to Paragraph (c)”.

The revisions and additions read as follows:

§ 180.533 Esfenvalerate; tolerances for residues.

(a) General. (1) Tolerances are established for the combined residues of the insecticide esfenvalerate, including its metabolites and degradates in or on food commodities in table 1 to this paragraph (a)(1). Compliance with the tolerance levels specified in table 1 is to be determined by measuring only the sum of esfenvalerate, (S)-cyano(3-phenoxyphenyl)methyl-(S)-4-chloro-α-(1-methylethyl) benzeneacetate, its non-racemic isomer, (R)-cyano(3-phenoxyphenyl)methyl-(R)-4-chloro-α-(1-methylethyl) benzeneacetate and its diastereomers (S)-cyano (3-phenoxyphenyl)methyl-(R)-4-chloro-α-(1-methylethyl) benzeneacetate and (R)-cyano (3-phenoxyphenyl)methyl-(S)-4-chloro-α-(1-methylethyl) benzeneacetate, expressed as the stoichiometric equivalent of esfenvalerate in or on food commodities as follows:

Table 1 to Paragraph (a)(1)

* * * * *

(2) A tolerance of 0.05 ppm on raw agricultural food commodities (other than those food commodities already covered by a higher tolerance as a result of use on growing crops) is established for the combined residues of the insecticide esfenvalerate. Compliance with the tolerance levels specified in table1 is to be determined by measuring only the sum of esfenvalerate, (S)-cyano(3-phenoxyphenyl)methyl-(S)-4-chloro-α-(1-methylethyl)benzeneacetate, its non-racemic isomer, (R)-cyano(3-phenoxyphenyl)methyl-(R)-4-chloro-α-(1-methylethyl)benzeneacetate and its diastereomers (S)-cyano(3-phenoxyphenyl)methyl-(R)-4-chloro-α-(1-methylethyl)benzeneacetate and (R)-cyano(3-phenoxyphenyl)methyl-(S)-4-chloro-α-(1-methylethyl)benzeneacetate expressed as the stoichiometric equivalent of esfenvalerate, as a result of the use of esfenvalerate in food-handling establishments.

* * * * *

(c) Tolerances with regional registrations. Tolerances with regional registration are established for the combined residues of the insecticide esfenvalerate. Compliance with the tolerance levels specified in table 2 is to be determined by measuring only the sum of esfenvalerate, (S)-cyano(3-phenoxyphenyl)methyl-(S)-4-chloro-α-(1-methylethyl)benzeneacetate, its non-racemic isomer, (R)-cyano(3-phenoxyphenyl)methyl-(R)-4-chloro-α-(1-methylethyl)benzeneacetate and its diastereomers (S)-cyano(3-phenoxyphenyl)methyl-(R)-4-chloro-α-(1-methylethyl)benzeneacetate and (R)-cyano(3-phenoxyphenyl)methyl-(S)-4-chloro-α-(1-methylethyl)benzeneacetate, expressed as the stoichiometric equivalent of esfenvalerate in or on food commodities as follows:

Table 2 to Paragraph (c)

* * * * *

15. Amend § 180.543, by:

a. Revising the introductory text in paragraph (a); and

b. Adding the table heading “Table 1 to Paragraph (a)”.

The revisions and addition read as follows:

§ 180.543 Diclosulam; tolerances for residues.

(a) General. Tolerances are established for residues of diclosulam, including its metabolites and degradates, in or on the commodities in table 1 to this paragraph (a). Compliance with the tolerance levels specified in table 1 is to be determined by measuring only diclosulam [N-(2,6-dichlorophenyl)-5-ethoxy-7-fluoro[l,2,4] triazolo[l,5-c]pyrimidine-2-sulfonamide] in or on the following commodities:

Table 1 to Paragraph (a)

* * * * *

16. Amend § 180.577, by:

a. Adding the table heading “Table 1 to Paragraph (a)”.

b. Removing the entry in paragraph (a) for “Fish, freshwater”; and

c. Adding the entry for “Fish, freshwater, finfish”.

The additions read as follows:

§ 180.577 Bispyribac-sodium; tolerances for residues.

(a) * * *

Table 1 to Paragraph (a)
Commodity | Parts per million
Fish, freshwater, finfish | 0.01
* * * * *

* * * * *

17. Amend § 180.588, by:

a. Adding the table heading “Table 1 to Paragraph (a)”;

b. Removing the entry in paragraph (a) for “Fruit, stone, group 12”; and

c. Adding the entry “Fruit, stone, group 12-12”.

The additions read as follows:

§ 180.588 Quinoxyfen; tolerances for residues.

(a) * * *

Table 1 to Paragraph (a)
Commodity | Parts per million
* * * * *
Fruit, stone, group 12-12 | 0.7
* * * * *

* * * * *

18. Amend § 180.643, by:

a. Revising the heading.

b. Revising the introductory text in paragraph (a);

c. Adding the table heading “Table 1 to Paragraph (a)”;

d. Removing the entry for “Vegetable, fruiting, group 8”; and

e. Adding the entry for “Vegetable, fruiting, group 8-10”.

The revisions and additions read as follows:

§ 180.643 Uniconazole-P; tolerances for residues.

(a) General. Tolerances are established for residues of the fungicide/plant growth regulator uniconazole-P, including its metabolites and degradates, in or on the commodities listed in Table 1. Compliance with the tolerance levels specified in table 1 is to be determined by measuring only the sum of uniconazole-P [(αS,βE)-β-[(4-chlorophenyl)methylene]-α-(1,1-dimethylethyl)-1H-1,2,4-triazole-1-ethanol], and its R-enantiomer and Z-isomer.

Table 1 to Paragraph (a)
Commodity | Parts per million
Vegetable, fruiting, group 8-10 | 0.01

* * * * *

[FR Doc. 2022-16165 Filed 8-1-22; 8:45 am]

BILLING CODE 6560-50-P